DEPARTMENT OF COMMERCE

International Trade Administration

Notice of Scope Rulings

AGENCY: Enforcement and Compliance, International Trade Administration, Department of Commerce.

SUMMARY: The Department of Commerce (Commerce) hereby publishes a list of scope rulings and anti-circumvention determinations made during the period January 1, 2022, through March 31, 2022. We intend to publish future lists after the close of the next calendar quarter.

DATES: Applicable May 25, 2022.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on February 9, 2022.² This current notice covers all scope rulings and anti-circumvention determinations made by Enforcement and Compliance from January 1, 2022, through March 31, 2022.

¹ See 19 CFR 351.225(o).

² See Notice of Scope Rulings, 87 FR 7425 (February 9, 2022).

Scope Rulings Made January 1, 2022, Through March 31, 2022

Mexico

A-201-820: Fresh Tomatoes From Mexico

Requestor: Simply Fresh, LLC. Fresh Roma tomatoes for processing that are preserved by a commercial process using chemical additives, used in Simply Fresh LLC's salsa products, are outside the scope of the suspension agreement and the suspended investigation; January 12, 2022.

People's Republic of China (China)

A-570-073 and C-570-074: Common Alloy Aluminum Sheet From China

Requestor: Hammond Power Solutions, Inc. Specially processed, beveled aluminum foil conductor for transformer coil windings is covered by the scope of the antidumping and countervailing duty orders on common alloy aluminum sheet (CAAS) because the further processing performed on the CAAS in Canada would neither remove the CAAS from the scope of the orders if it were performed in China, nor constitutes “substantial transformation” that renders the resulting product a product of Canada; January 20, 2022.

A-570-051 and C-570-052: Certain Hardwood Plywood Products From China

Requestor: EAPA Referral from U.S. Customs and Border Protection. Two-ply panels produced in China are covered by the scope of the antidumping and countervailing duty orders on certain hardwood plywood products (hardwood plywood) from China. The hardwood plywood that Vietnam Finewood Company Limited exported to the United States, which was assembled in the Socialist Republic of Vietnam (Vietnam) using two-ply panels imported from China, are Chinese country of origin because the two-ply panels are not substantially transformed by the processing occurring in Vietnam; January 21, 2022.

A-570-929: Small Diameter Graphite Electrodes From China

Requestor: Boart Longyear Company. The graphite rods subject to the request are within the scope of the antidumping duty order on small diameter graphite electrodes from China because the products have the same physical characteristics as unfinished small diameter graphite electrodes and can be machined into graphite pin joining systems, i.e., subject merchandise, after importation; February 1, 2022.

A-570-967 and C-570-968: Aluminum Extrusions From China

Requestor: Discount Ramps.com LLC. The aluminum extrusions within Discount Ramps.com LLC's bogie wheel kit are covered by the scope of the antidumping and countervailing duty orders on aluminum extrusions from China because they are made from an Aluminum Association 6-series alloy, and the bogie wheel kit does not meet the criteria for the scope exclusion for finished goods kits because it does not contain, at the time of importation, all of the necessary parts to fully assemble a final finished good; February 4, 2022.

Taiwan

A-583-869: Passenger Vehicle and Light Truck Tires From Taiwan

Requestor: Cheng Shin Rubber Ind. Col Ltd. Three models of light-truck tires are not covered by the scope of the antidumping duty order on passenger vehicle and light truck tires from Taiwan because they have been designed and marketed exclusively for use as temporary-use spare tires for light trucks and meet the additional technical requirements under the fifth exclusion of the scope; February 14, 2022.

Notification to Interested Parties

Interested parties are invited to comment on the completeness of this list of completed scope inquiries and anti-circumvention determinations made during the period January 1, 2022, through March 31, 2022. Any comments should be submitted to the Deputy Assistant Secretary for Antidumping and Countervailing Duty Operations, Enforcement and Compliance, International Trade Administration, via email to CommerceCLU@trade.gov.

This notice is published in accordance with 19 CFR 351.225(o).

Dated: May 19, 2022.
James Maeder,
Deputy Assistant Secretary for Antidumping and Countervailing Duty Operations.

[FR Doc. 2022-11215 Filed 5-24-22; 8:45 am]

BILLING CODE 3510-DS-P